ENVIRONMENTAL PROTECTION AGENCY

40 CFR Parts 261 and 262

[EPA-HQ-RCRA-2003-0012; FRL-8211-7]

RIN 2050-AG18

Standards Applicable to Generators of Hazardous Waste; Subpart K—Standards Applicable to Academic Laboratories; Extension of Comment Period

AGENCY: Environmental Protection Agency (EPA).

ACTION: Proposed rule; extension of comment period.

SUMMARY: EPA is announcing that the comment period to the proposed rule entitled Standards Applicable to Generators of Hazardous Waste; Standards Applicable to Academic Laboratories published on May 23, 2006 (71 FR 29711) is being extended until September 20, 2006. In the proposed rule EPA is requesting comment on alternative options for proposed laboratory requirements for colleges and universities. In addition, the proposal requests comment on expanding the rule to include other types of laboratories that operate and have waste generation patterns similar to college and university laboratories.

DATES: The comment period for this proposed rule is extended from the original closing date of August 21, 2006, to September 20, 2006.

ADDRESSES: Submit your comments, identified by Docket ID No. EPA-HQ-RCRA-2003-0012 by one of the following methods:

• Federal eRulemaking Portal: http://www.regulations.gov. Follow the on-line instructions for submitting comments.

• E-mail: a-and-r-docket@epa.gov.

• Mail: U.S. Postal Service, send comments to: HQ EPA Docket Center (6102T), Attention Docket ID No. EPA-HQ-RCRA-2003-0012, 1200 Pennsylvania Avenue, NW., Washington, DC 20460. Please include a total of two copies. We request that you also send a separate copy of each comment to the contact person listed below (see FOR FURTHER INFORMATION CONTACT).

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations and telephone numbers. The Docket Center's mailing address for U.S. mail and the procedure for submitting comments to http://www.regulations.gov are not affected by the flooding and will remain the same.

• Hand Delivery: In person or by courier, deliver comments to: HQ EPA Docket Center (6102T), Attention Docket ID No. EPA-HQ-RCRA-2003-0012, 1301 Constitution Avenue, NW., Room B-108, Washington, DC 20004. Such deliveries are only accepted during the Docket's normal hours of operation, and special arrangements should be made for deliveries of boxed information. Please include a total of two copies. We request that you also send a separate copy of each comment to the contact person listed below (see FOR FURTHER INFORMATION CONTACT).

Instructions: Direct your comments to Docket ID No. EPA-HQ-RCRA-2003-0012. The EPA's policy is that all comments received will be included in the public docket without change and may be made available online at http://www.regulations.gov, including any personal information provided, unless the comment includes information claimed to be Confidential Business Information (CBI) or other information the disclosure of which is restricted by statute. Do not submit information that you consider to be CBI or otherwise protected through http://www.regulations.gov or e-mail. Send or deliver information identified as CBI to only the following address: Ms. LaShan Haynes, RCRA Document Control Officer, EPA (Mail Code 5305W), Attention Docket ID No. EPA-HQ-RCRA-2003-0012, 1200 Pennsylvania Avenue, Washington, DC 20460. Clearly mark the part or all of the information that you claim to be CBI. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. We also request that interested parties who would like information they previously submitted to EPA to be considered as part of this reconsideration action identify the relevant information by docket entry numbers and page numbers.

Docket: All documents in the docket are listed in the http://www.regulations.gov index. Although listed in the index, some information is not publicly available, e.g., CBI or other information the disclosure of which is restricted by statute. Certain other material, such as copyrighted material, will be publicly available only in hard copy. Publicly available docket materials are available either electronically in http://www.regulations.gov or in hard copy at the HQ EPA Docket Center, Docket ID No. EPA-HQ-OAR-2004-0022, EPA West Building, Room B-102, 1301 Constitution Ave., NW., Washington, DC 20004. This Docket Facility is open from 8:30 a.m. to 4:30 p.m., Monday through Friday, excluding legal holidays. The HQ EPA Docket Center telephone number is (202) 566-1742. The Public Reading Room is open from 8:30 a.m. to 4:30 p.m., Monday through Friday, excluding legal holidays. The telephone number for the Public Reading Room is (202) 566-1744. A reasonable fee may be charged for copying docket materials.

FOR FURTHER INFORMATION CONTACT: For more information on this rulemaking, contact Patricia Mercer at (703) 308-8408, or mercer.patricia@epa.gov, Office of Solid Waste (MC: 5304W), U.S. Environmental Protection Agency, 1200 Pennsylvania Ave., NW., Washington, DC 20460.

SUPPLEMENTARY INFORMATION: Comment Period. We are extending the comment period by 30 days in response to a request from the National Association of College and University Business Officers (NACUBO) on behalf of the American Council on Education (ACE), the Campus Safety, Health, and Environmental Management Association (CSHEMA), the Campus Consortium for Environmental Excellence (C2E2), and the National Association of College and University Business Officers for more time to respond to issues in the proposed rule published on May 23, 2006 (71 FR at 29712). Therefore, the public comment period will now end on September 20, 2006.

Regulated Entities. Entities potentially affected by this proposed action are generators of unwanted materials, as defined in this proposal, from college and university laboratories. College and university laboratories, as defined under this proposal, include laboratories associated with a private or public, post-secondary, degree-granting, academic institution that is accredited by an accrediting agency listed annually by the U.S. Department of Education. Only those colleges and universities which have laboratories on their campuses would be covered by this alternate approach; laboratories not located at colleges or universities would not be covered. This proposed action is optional in that colleges and universities may elect to have their laboratories remain regulated under current RCRA generator regulations as set forth in 40 CFR 262.11 and 262.34(c), or may choose to manage their hazardous wastes according to this alternative regulatory approach. (In RCRA authorized states, today's proposed action would be an option once it has been adopted by the state in which the college or university resides.) To determine whether a college or university laboratory is covered by this action, interested parties should examine 40 CFR part 262, subpart K carefully. If there are questions regarding the applicability of the proposed rule to a particular entity, consult the person listed in the section of this preamble entitled FOR FURTHER INFORMATION CONTACT.

Submitting CBI. Do not submit this information to EPA through http://www.regulations.gov or e-mail. Send or deliver information identified as CBI only to the address listed in the ADDRESSES section of this document. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

List of Subjects in 40 CFR Parts 261 and 262

Environmental protection, Standards applicable to generators of hazardous wastes.

Dated: August 16, 2006.
Matthew Hale,
Director, Office of Solid Waste.

[FR Doc. E6-13854 Filed 8-18-06; 8:45 am]

BILLING CODE 6560-50-P